ENVIRONMENTAL PROTECTION AGENCY

[EPA-R07-OW-2011-0504; FRL-9317-5]

Notice of Approval of the Primacy Application for National Primary Drinking Water Regulations for the State of Missouri

AGENCY: Environmental Protection Agency (EPA).

ACTION: Notice of approval and solicitation of requests for a public hearing.

SUMMARY: The Environmental Protection Agency (EPA) is hereby giving notice that the State of Missouri is revising its approved Public Water System Supervision Program under the Missouri Department of Natural Resources (MDNR). The EPA has determined that these revisions are no less stringent than the corresponding Federal regulations. Therefore, the EPA intends to approve these program revisions.

DATES: This determination to approve the Missouri program revision is made pursuant to 40 CFR 142.12(d)(3). This determination shall become final and effective on July 11, 2011, unless (1) A timely and appropriate request for a public hearing is received or (2) the Regional Administrator elects to hold a public hearing on his own motion. Any interested person, other than Federal Agencies, may request a public hearing. All interested parties may request a public hearing on the approval of these program revisions to the EPA Regional Administrator to the address shown below by July 11, 2011. If a substantial request for a public hearing is made within the requested thirty day time frame, a public hearing will be held and a notice will be given in the Federal Register and a newspaper of general circulation. Frivolous or insubstantial requests for a hearing may be denied by the Regional Administrator.

ADDRESSES: Any request for a public hearing shall include the following information: (1) Name, address and telephone number of the individual organization or other entity requesting a hearing; (2) a brief statement of the requesting person's interest in the Regional Administrator's determination and a brief statement on information that the requesting person intends to submit at such hearing; (3) the signature of the individual making the request or, if the request is made on behalf of an organization or other entity, the signature of a responsible official of the organization or other entity. Requests for Public Hearing shall be addressed to: Karl Brooks, Regional Administrator, Environmental Protection Agency-Region 7, 901 North 5th Street, Kansas City, Kansas 66101.

All documents relating to this determination are available for review between the hours of 9 a.m. and 4:30 p.m., Monday through Friday, at the following offices:

(1) Missouri Department of Natural Resources, Public Drinking Water Branch, 1101 Riverside Drive, Jefferson City, MO 65101. (2) Environmental Protection Agency-Region 7, Water Wetlands and Pesticides Division, Drinking Water Management Branch, 901 North 5th Street, Kansas City, Kansas 66101.

FOR FURTHER INFORMATION CONTACT: Neftali Hernandez-Santiago, Environmental Protection Agency-Region 7, Drinking Water Management Branch, (913) 551-7036, or by e-mail at hernandez-santiago.neftali@epa.gov.

SUPPLEMENTARY INFORMATION: Notice is hereby given that the EPA has determined to approve an application by the Missouri Department of Natural Resources to incorporate the following EPA National Primary Drinking Water Regulations: (1) Stage 2 Disinfectants and Disinfection Byproducts Rule (January 4, 2006, 71 FR 388) and (2) Long Term 2 Enhanced Surface Water Treatment Rule (January 5, 2006, 71 FR 654). During the review of the state's drinking water regulations, EPA noted an issue related to best available technology (BAT). Under the Safe Drinking Water Act, EPA must specify the best available technology for each maximum contaminant level (MCL) or maximum residual disinfectant level (MRDL) that is set. Public water systems that are unable to achieve an MCL or MRDL may be granted a variance on condition that the system use the BATs, treatment techniques, or other means which the Administrator finds are available (taking costs into consideration), based upon an evaluation satisfactory to the State that indicates that alternative sources of water are not reasonably available to the system. Missouri allows variances to MCLs but has not adopted the BATs listed in 40 CFR 141.64(a) and (b). Since Missouri has the authority to grant variances, the state must also adopt the BATs specified by the EPA Administrator, in order to be consistent with the language in Sections 1415 and 1416 of the SDWA. The Missouri rule language currently states that the system installs BATs that the state (department) finds to be available; this language is less stringent than the Federal statute requires. EPA Region 7 has negotiated a resolution to this issue with MDNR, concluding that, until Missouri promulgates a rule adopting EPA's BATs, MDNR agrees to issue variances only to systems that have agreed, as a condition of being issued the variance, to utilize BATs, treatment techniques, or other means, which the EPA Administrator, taking cost into consideration, finds generally available, in accordance with the requirements of Title 40 of the CFR and Sections 1415 and 1416 of the SDWA. In light of Missouri's agreement to issue variances only to systems that have agreed to install BATs, treatment techniques, or other means consistent with requirements of the SDWA and its implementing regulations, EPA has determined that Missouri continues to meet requirements for primary enforcement responsibility of the SDWA, as specified in 40 CFR 142.10.

Authority: Section 1413 of the Safe Drinking Water Act, as amended, and 40 CFR 142.10, 142.12(d) and 142.13.

Dated: May 31, 2011.
Karl Brooks,
Regional Administrator, Region 7.

[FR Doc. 2011-14297 Filed 6-8-11; 8:45 am]

BILLING CODE 6560-50-P